DEPARTMENT OF TRANSPORTATION

Federal Aviation Administration

14 CFR Part 39

[Docket No. FAA-2016-9524; Directorate Identifier 2016-NM-049-AD; Amendment 39-18891; AD 2017-10-17]

RIN 2120-AA64

Airworthiness Directives; Airbus Airplanes

AGENCY: Federal Aviation Administration (FAA), Department of Transportation (DOT).

ACTION: Final rule.

SUMMARY: We are superseding Airworthiness Directive (AD) 2014-16-19 for all Airbus Model A330-200 Freighter, -200, and -300 series airplanes. AD 2014-16-19 required revision of the maintenance or inspection program to include certain fuel airworthiness limitations. This new AD requires revision of the maintenance or inspection program, as applicable, to include new fuel airworthiness limitations. This new AD also removes certain airplanes from the applicability of AD 2014-16-19. This AD was prompted by the issuance of more restrictive fuel airworthiness limitations. We are issuing this AD to address the unsafe condition on these products.

DATES: This AD is effective June 29, 2017.

The Director of the Federal Register approved the incorporation by reference of a certain publication listed in this AD as of June 29, 2017.

The Director of the Federal Register approved the incorporation by reference of a certain other publication listed in this AD as of September 25, 2014 (79 FR 49449, August 21, 2014).

ADDRESSES: For service information identified in this final rule, contact Airbus SAS, Airworthiness Office—EAL, 1 Rond Point Maurice Bellonte, 31707 Blagnac Cedex, France; telephone: +33 5 61 93 36 96; fax: +33 5 61 93 45 80; email: airworthiness.A330-A340@airbus.com; Internet: http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-9524.

Examining the AD Docket

You may examine the AD docket on the Internet at http://www.regulations.gov by searching for and locating Docket No. FAA-2016-9524; or in person at the Docket Management Facility between 9 a.m. and 5 p.m., Monday through Friday, except Federal holidays. The AD docket contains this AD, the regulatory evaluation, any comments received, and other information. The address for the Docket Office (telephone: 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone: 425-227-1138; fax: 425-227-1149.

SUPPLEMENTARY INFORMATION:

Discussion

We issued a notice of proposed rulemaking (NPRM) to amend 14 CFR part 39 to supersede AD 2014-16-19, Amendment 39-17943 (79 FR 49449, August 21, 2014) (“AD 2014-16-19”). AD 2014-16-19 applied to all Airbus Model A330-200 Freighter, -200, and -300 series airplanes. The NPRM published in the Federal Register on January 4, 2017 (82 FR 734). The NPRM was prompted by the issuance of more restrictive fuel airworthiness limitations. The NPRM proposed to require revision of the maintenance or inspection program, as applicable, to include new fuel airworthiness limitations. The NPRM also proposed to remove certain airplanes from the applicability of AD 2014-16-19. We are issuing this AD to prevent the potential of ignition sources inside fuel tanks, which, in combination with flammable fuel vapors, could result in fuel tank explosions and consequent loss of the airplane.

The European Aviation Safety Agency (EASA), which is the Technical Agent for the Member States of the European Union, has issued EASA AD 2016-0065, dated April 5, 2016 (referred to after this as the Mandatory Continuing Airworthiness Information, or “the MCAI”), to correct an unsafe condition for all Airbus Model A330-200 Freighter series airplanes, Model A330-200 series airplanes, Model A330-300 series airplanes; and Model A340-200 series airplanes, Model A340-300 series airplanes, Model A340-500 series airplanes, and Model A340-600 series airplanes. The MCAI states:

Prompted by an accident * * *, the Federal Aviation Authority (FAA) published Special Federal Aviation Regulation (SFAR) 88, and the Joint Aviation Authorities (JAA) published Interim Policy INT/POL/25/12. A design review was conducted by Airbus to develop Fuel Airworthiness Limitations (FAL) for Airbus A330 and A340 aeroplanes in response to these regulations.

The FAL, which are approved by EASA, are defined and published in Airbus A330 and A340 Airworthiness Limitations Section (ALS) documents known as Part 5. Failure to comply with these instructions could result in a fuel tank explosion and consequent loss of the aeroplane.

EASA issued AD 2012-0168 [which corresponds with FAA AD 2014-16-19 for Model A330 airplanes, and FAA AD 2013-26-03, Amendment 39-17712 (78 FR 79292, December 30, 2013) for Model A340 airplanes] to require compliance with the FAL as specified in the A330 and A340 ALS Part 5 Revision 00.

Since that [EASA] AD was issued, Airbus issued Revision 01 of both ALS Parts 5 for Airbus A330 and A340 to introduce more restrictive maintenance requirements and/or airworthiness limitations.

For the reason described above, this [EASA] AD retains the requirements of EASA AD 2012-0168, which is superseded, and requires accomplishment of the actions specified in Airbus A330 ALS Part 5 Revision 01, A340 ALS Part 5 Revision 01, as applicable (hereafter collectively referred to as `the ALS' in this [EASA] AD).

You may examine the MCAI in the AD docket on the Internet at http://www.regulations.gov by searching for and locating Docket No. FAA-2016-9524.

Comments

We gave the public the opportunity to participate in developing this AD. We considered the comment received. The Air Line Pilots Association, International expressed support for the NPRM.

Conclusion

We reviewed the available data, including the comment received, and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Airbus has issued Airbus A330 Airworthiness Limitations Section (ALS) Part 5—Fuel Airworthiness Limitations (FAL), Revision 01, dated October 28, 2015. These airworthiness limitations introduce more restrictive fuel airworthiness limitations. This service information is reasonably available because the interested parties have access to it through their normal course of business or by the means identified in the ADDRESSES section.

Costs of Compliance

We estimate that this AD affects 104 airplanes of U.S. registry.

The actions required by AD 2014-16-19, and retained in this AD, take about 1 work-hour per product, at an average labor rate of $85 per work-hour. Based on these figures, the estimated cost of the actions that are required by AD 2014-16-19 is $85 per product.

We also estimate that it will take about 1 work-hour per product to comply with the basic requirements of this AD. The average labor rate is $85 per work-hour. Based on these figures, we estimate the cost of this AD on U.S. operators to be $8,840, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-16-19, Amendment 39-17943 (79 FR 49449, August 21, 2014), and adding the following new AD:

2017-10-17 Airbus: Amendment 39-18891; Docket No. FAA-2016-9524; Directorate Identifier 2016-NM-049-AD.

(a) Effective Date

This AD is effective June 29, 2017.

(b) Affected ADs

This AD replaces AD 2014-16-19, Amendment 39-17943 (79 FR 49449, August 21, 2014) (“AD 2014-16-19”).

(c) Applicability

This AD applies to the Airbus airplanes identified in paragraphs (c)(1) through (c)(3) of this AD, certificated in any category, with an original certificate of airworthiness or original export certificate of airworthiness issued on or before October 28, 2015.

(1) Airbus Model A330-223F and -243F airplanes.

(2) Airbus Model A330-201, -202, -203, -223, and -243 airplanes.

(3) Airbus Model A330-301, -302, -303, -321, -322, -323, -341, -342, and -343 airplanes.

(d) Subject

Air Transport Association (ATA) of America Code 05, Time Limits/Maintenance Checks.

(e) Reason

This AD was prompted by the issuance of more restrictive fuel airworthiness limitations. We are issuing this AD to prevent the potential of ignition sources inside fuel tanks, which, in combination with flammable fuel vapors, could result in fuel tank explosions and consequent loss of the airplane.

(f) Compliance

Comply with this AD within the compliance times specified, unless already done.

(g) Retained Maintenance Program Revision and Airworthiness Limitations Compliance, With No Changes

This paragraph restates the requirements of paragraph (g) of AD 2014-16-19, with no changes.

(1) Within 3 months after September 25, 2014 (the effective date of AD 2014-16-19), revise the maintenance or inspection program, as applicable, by incorporating Airbus A330 Airworthiness Limitations Section (ALS) Part 5—Fuel Airworthiness Limitations (FAL), dated November 16, 2011.

(2) Comply with all applicable instructions and airworthiness limitations included in Airbus A330 ALS Part 5—FAL, dated November 16, 2011. The initial compliance times for the actions specified in Airbus A330 ALS Part 5—FAL, dated November 16, 2011, are at the later of the times specified in paragraphs (g)(2)(i) and (g)(2)(ii) of this AD, except as required by paragraphs (h) and (i) of this AD.

(i) Within the applicable compliance times specified in Airbus A330 ALS Part 5—FAL, dated November 16, 2011.

(ii) Within 3 months after accomplishing the actions required by paragraph (g)(1) of this AD.

(h) Retained Exceptions to Compliance Times for Design Changes, With No Changes

This paragraph restates the exceptions specified in paragraph (h) of AD 2014-16-19, with no changes.

(1) For type design changes specified in “Sub-part 5-2 Changes to Type Design,” of Airbus A330 ALS Part 5—FAL, dated November 16, 2011, the compliance times are defined as “Embodiment Limits,” except as defined in paragraph (h)(2) of this AD.

(2) Where Airbus A330 ALS Part 5—FAL, dated November 16, 2011, specifies a compliance time based on a calendar date for modifying the control circuit for the fuel pump of the center fuel tank (installing ground fault interrupters to the center tank fuel pump control circuit), the compliance date is September 18, 2016 (48 months after the effective date of AD 2012-16-05, Amendment 39-17152 (77 FR 48425, August 14, 2012)).

(i) Retained No Alternative Actions, Intervals, or Critical Design Configuration Control Limitations (CDCCLs), With Added Exception

This paragraph restates the requirements of paragraph (i) of AD 2014-16-19, with an added exception. Except as required by paragraph (j) of this AD: After accomplishing the revision required by paragraph (g)(1) of this AD, no alternative actions (e.g., inspections), intervals, or CDCCLs may be used; except as specified in paragraph (h) of this AD; or unless the actions, intervals, or CDCCLs are approved as an alternative method of compliance (AMOC) in accordance with the procedures specified in paragraph (l)(1) of this AD.

(j) New Requirement of This AD: Revise the Maintenance or Inspection Program

Within 3 months after the effective date of this AD, revise the maintenance or inspection program, as applicable, to incorporate Airbus A330 ALS Part 5—FAL, Revision 01, dated October 28, 2015. The compliance times for accomplishing the initial tasks specified in Airbus A330 ALS Part 5—FAL, Revision 01, dated October 28, 2015, are at the times specified in Airbus A330 ALS Part 5—FAL, Revision 01, dated October 28, 2015, or within 3 months after revising the maintenance or inspection program as required by paragraph (j) of this AD, whichever occurs later. Accomplishing the revision required by this paragraph terminates the actions required by paragraph (g) of this AD.

(k) New Requirement of This AD: No Alternative Actions, Intervals, or CDCCLs

After accomplishing the revision required by paragraph (j) of this AD, no alternative actions (e.g., inspections), intervals, or CDCCLs may be used unless the actions, intervals, or CDCCLs are approved as an AMOC in accordance with the procedures specified in paragraph (l)(1) of this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(m) Related Information

(1) Refer to Mandatory Continuing Airworthiness Information (MCAI) EASA AD 2016-0065, dated April 5, 2016, for related information. This MCAI may be found in the AD docket on the Internet at http://www.regulations.gov by searching for and locating Docket No. FAA-2016-9524.

(2) For more information about this AD, contact Vladimir Ulyanov, Aerospace Engineer, International Branch, ANM-116, Transport Airplane Directorate, FAA, 1601 Lind Avenue SW., Renton, WA 98057-3356; telephone: 425-227-1138; fax: 425-227-1149.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on June 29, 2017.

(i) Airbus A330 Airworthiness Limitations Section (ALS) Part 5—Fuel Airworthiness Limitations (FAL), Revision 01, dated October 28, 2015.

(ii) Reserved.

(4) The following service information was approved for IBR on September 25, 2014 (79 FR 49449, August 21, 2014).

(i) Airbus A330 Airworthiness Limitations Section (ALS) Part 5—Fuel Airworthiness Limitations (FAL), dated November 16, 2011. The cover page of this document is undated and identified as Revision 00.

(ii) Reserved.

(5) For service information identified in this AD, contact Airbus SAS, Airworthiness Office—EAL, 1 Rond Point Maurice Bellonte, 31707 Blagnac Cedex, France; telephone: +33 5 61 93 36 96; fax: +33 5 61 93 45 80; email: airworthiness.A330-A340@airbus.com; Internet: http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on May 8, 2017.
Michael Kaszycki,
Acting Manager, Transport Airplane Directorate, Aircraft Certification Service.

[FR Doc. 2017-10281 Filed 5-24-17; 8:45 am]

BILLING CODE 4910-13-P